DEPARTMENT OF THE INTERIOR

Bureau of Land Management

[UT-921-5421-BX-AA07; UTU-82199; UT-921-5421-BX-AA08; UTU-82200]

Notice of Applications for Recordable Disclaimer of Interest in Public Highway Rights-of-Way Established Pursuant to Revised Statute 2477 (43 U.S.C. 932, Repealed October 21, 1976); Alexa Lane and Snake Pass Road in Millard County, UT

AGENCY: Bureau of Land Management, Interior.

ACTION: Notice of applications.

SUMMARY: On January 21, 2005, the State of Utah and Millard County submitted two applications for recordable disclaimers of interest from the United States. These recordable disclaimer of interest applications are identified by BLM Serial Number UTU-82199 for Alexa Lane and UTU-82200 for Snake Pass Road, both in Millard County, Utah.

Recordable disclaimers of interest, if issued, would confirm that the United States has no property interest in the identified public highway rights-of-way. This Notice is intended to notify the public of the pending applications and the State's and County's grounds for supporting them.

Specific details of the applications are provided in the SUPPLEMENTARY INFORMATION section below.

DATES: On or before June 13, 2005, all interested parties may submit comments on the State's and County's applications as follows. Comments on the Alexa Lane application should reference BLM Case File Serial Number UTU-82199, and comments on the Snake Pass Road application should reference BLM Case File Serial Number UTU-82200. Public comment will be accepted if received by BLM or postmarked no later than June 13, 2005. BLM will review all timely comments received on the applications, and will address all relevant, substantive issues raised in the comments. A final decision on the merits of the applications will not be made until at least July 12, 2005.

ADDRESSES: Interested parties and the public are encouraged to access the RS2477 Disclaimer Process public Web site at http://www.ut.blm.gov/rs2477 to review the application materials and provide comments on the application. For those without access to the public Web site, written comments may be provided to the Chief, Branch of Lands and Realty, BLM Utah State Office (UT-921), P.O. Box 45155, Salt Lake City, Utah 84145-0155.

FOR FURTHER INFORMATION CONTACT: Mike DeKeyrel, Realty Specialist, BLM Utah State Office Branch of Lands and Realty (UT-921) at the above address or phone 801-539-4105 and Fax 801-539-4260

SUPPLEMENTARY INFORMATION: Disclaimers of interest are authorized by Section 315 of the Federal Land Policy and Management Act (FLPMA) of 1976, as amended (43 U.S.C. 1745), the regulations contained in 43 CFR subpart 1864, and the April 9, 2003, Memorandum of Understanding (MOU) Between the State of Utah and the Department of the Interior on State and County Road Acknowledgement.

Alexa Lane is located in north-central Millard County, approximately 25 miles west of Delta, Utah, and is approximately 11 miles in length. Application information submitted by the State and County indicates that road use occurred in the 1920s, and road construction (grading) occurred in the 1930s. The road construction and use was and is for access to grazing, general public access, and travel in and through the area. The road surface is native dirt, and graded throughout its length. The recordable disclaimer of interest application pertains to those road segments across public lands administered by BLM. One road segment approximately 0.74 mile long is across State of Utah land and is not a part of the application.

Snake Pass Road is located in southwest Millard County approximately 70 miles southwest of Delta, Utah, and is approximately 25 miles in length. Application information submitted by the State and County indicates that initial road use began in 1918 and construction (grading) occurred in the 1950s. The road construction and use was and is for access to grazing, general public access, and travel in and through the area. The surface of the road is native dirt, and graded throughout its length. The recordable disclaimer of interest application pertains to those road segments across public lands administered by BLM. One road segment approximately 0.49 mile long is across State of Utah land and is not a part of the application.

The State of Utah and the Millard County assert that they hold a joint and undivided property interest in the road rights-of-way identified above as granted pursuant to the authority provided by Revised Statute 2477 (43 U.S.C. 932, repealed October 21, 1976) over public lands administered by the Bureau of Land Management. The State submitted the following information with the applications in both paper copy and in electronic form (Compact Disk):

1. The claimed right-of-way (disturbed) width for Alexa Lane ranges from 46 to 48 feet. The claimed right-of-way (disturbed) width for Snake Pass Road ranges from 30 to 54 feet.

2. Centerline description of the roads based on Global Positioning System (GPS) data.

3. Detailed descriptions of the rights-of-way (identified segments of each road) passing through public lands including beginning and end points, surface type, and disturbed width.

4. Legal description by aliquot part (e.g., ¼¼ section) of the land parcels through which the roads pass.

5. Maps showing location of the identified road rights-of-way and the location and dates of water diversion points and mining locations to which the roads provide access.

6. Aerial photography dated circa 1978 and 1995.

7. Signed and notarized affidavits by persons attesting to the location of both roads; their establishment as a highway prior to October 21, 1976; familiarity with the character and attributes of both roads including type of travel surface, disturbed width, associated improvements and ancillary features such as bridges, cattleguards, etc.; current public usage of the road; the historic and current purposes for which the road is used; and evidence of periodic maintenance.

8. Recent photographs of the roads at various points along their alignments.

The State of Utah did not identify any known adverse claimants of the identified public highway rights-of-way.

If approved, the recordable disclaimer documents would confirm that the United States has no property interest in the public highway rights-of-way as it is identified in the official records of the Bureau of Land Management as of the date of the disclaimer document.

Comments, including names and street addresses of commentors, will be available for public review at the Utah State Office (see address above), during regular business hours 8 a.m. to 4 p.m. local time, Monday through Friday, except holidays. Individual respondents may request confidentiality. If you wish to withhold your name or address from public review or from disclosure under the Freedom of Information Act, you must state this prominently at the beginning of your comments. Such requests will be honored to the extent allowed by law. All submissions from organizations or business will be made available for public inspection in their entirety. Anonymous comments will not be accepted.

Dated: March 10, 2005.
Kent Hoffman,
Deputy State Director.

[FR Doc. 05-7360 Filed 4-12-05; 8:45 am]

BILLING CODE 4310-DK-P